NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment. NSF is forwarding the proposed new information collection submission to the Office of Management and Budget (OMB) for clearance simultaneously with the publication of this second notice.

FOR FURTHER INFORMATION CONTACT: Suzanne H. Plimpton at (703) 292-7556 or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: This is the second notice for public comment; the first was published in the Federal Register at 83 FR 36629, and one comments was received. The full submission may be found at: http://www.reginfo.gov/public/do/PRAMain.

NSF may not conduct or sponsor a collection of information unless the collection of information displays a currently valid OMB control number and the agency informs potential persons who are to respond to the collection of information that such persons are not required to respond to the collection of information unless it displays a currently valid OMB control number.

Comments: On July 30, 2018, NSF published a request for public comment (83 FR 36629), and one comment was received regarding making this information collection a common form. NSF agrees, and will proceed with the request.

Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street NW, Room 10235, Washington, DC 20503, and to Suzanne H. Plimpton, Reports Clearance Officer, National Science Foundation, 2415 Eisenhower Avenue, Alexandria, VA 22314, or send email to splimpto@nsf.gov. Comments regarding these information collections are best assured of having their full effect if received within 30 days of this notification. Copies of the submission(s) may be obtained by calling 703-292-7556.

Title of Collection: Research Performance Progress Report.

OMB Approval Number: 3145-0221.

Type of Request: Intent to seek approval to extend an information collection for three years.

Use of the Information: NSF developed the RPPR as a new service within Research.gov. This service replaced NSF's annual and interim project reporting capabilities which resided in the NSF FastLane System.

Information regarding NSF's implementation of the Research Performance Progress Report (RPPR) may be found at the following website: http://www.nsf.gov/bfa/dias/policy/rppr/index.jsp.

Burden on the Public: The Foundation estimates that an average of 5 hours is expended for each report submitted. An estimated 24,000 reports are expected during the course of one year for a total of 120,000 public burden hours annually.

Dated: September 25, 2018.
Suzanne H. Plimpton,
Reports Clearance Officer, National Science Foundation.

[FR Doc. 2018-21230 Filed 9-28-18; 8:45 am]

BILLING CODE 7555-01-P